DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT:

OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Actions

On August 21, 2018, OFAC determined that the property and interests in property subject to U.S. jurisdiction of the following persons are blocked under the relevant sanctions authority listed below.

Individuals

1. NAGIBIN, Anton Aleksandrovich, Russia; DOB 20 May 1985; POB Leningrad, Russia; Gender Male; Passport 712413714 (Russia) (individual) [CYBER2] (Linked To: DIVETECHNOSERVICES).

Designated pursuant to section 1(a)(iii)(C) of E.O. 13694, as amended, for having acted or purported to act for or on behalf of, directly or indirectly, DIVETECHNOSERVICES, a person whose property and interests in property are blocked pursuant to E.O. 13694, as amended.

2. TSAREVA, Marina Igorevna, Russia; DOB 09 Nov 1973; POB Krasnoyarsk, Russia; nationality Russia; Gender Female; Passport 711002398 (Russia) (individual) [CYBER2] (Linked To: DIVETECHNOSERVICES; Linked To: VELA-MARINE LTD.).

Designated pursuant to section 1(a)(iii)(C) of E.O. 13694, as amended, for having acted or purported to act for or on behalf of, directly or indirectly, DIVETECHNOSERVICES, a person whose property and interests in property are blocked pursuant to E.O. 13694, as amended.

Also designated pursuant to section 1(a)(iii)(C) of E.O. 13694, as amended, for having acted or purported to act for or on behalf of, directly or indirectly, VELA-MARINE LTD., a person whose property and interests in property are blocked pursuant to E.O. 13694, as amended.

Entities

1. LACNO S.R.O., Cintorinska 9, Bratislava 81108, Slovakia; D-U-N-S Number 361680273; V.A.T. Number SK2024170423 (Slovakia) [CYBER2] (Linked To: DIVETECHNOSERVICES).

Designated pursuant to section 1(a)(iii)(B) of E.O. 13694, as amended, for having materially assisted, sponsored or provided financial, material, or technological support for, or goods or services to or in support of, DIVETECHNOSERVICES, a person whose property and interests in property are blocked pursuant to E.O. 13694, as amended.

2. VELA-MARINE LTD. (Cyrillic: OOO ВЕЛА-МАРИН), Saint Petersburg, Russia; website http://vela-marine.ru [CYBER2] (Linked To: DIVETECHNOSERVICES).

Designated pursuant to section 1(a)(iii)(D) of E.O. 13694, as amended, for having attempted to act or purport to act for or on behalf of, directly or indirectly, DIVETECHNOSERVICES, a person whose property and interests in property are blocked pursuant to E.O. 13694, as amended.

Dated: August 21, 2018.
Andrea Gacki,
Acting Director, Office of Foreign Assets Control.

[FR Doc. 2018-18338 Filed 8-23-18; 8:45 am]

BILLING CODE 4810-AL-P